DEPARTMENT OF EDUCATION

34 CFR Chapter III

[Docket ID ED-2020-OSERS-0063]

Final Priority and Definitions—American Indian Vocational Rehabilitation Training and Technical Assistance Center

AGENCY: Office of Special Education and Rehabilitative Services (OSERS), Department of Education.

ACTION: Final priority and definitions.

SUMMARY: The Department of Education (Department) announces a priority and definitions to fund an American Indian Vocational Rehabilitation Training and Technical Assistance Center (AIVRTTAC), Assistance Listing Number 84.250Z. The Department may use the priority and definitions for competitions in fiscal year (FY) 2021 and later years. We take this action to improve employment outcomes and raise expectations for American Indians with disabilities and to fund training and technical assistance (TA) activities to support the American Indian Vocational Rehabilitation Services (AIVRS) projects. We intend the AIVRTTAC to provide training and TA to the AIVRS project personnel, especially vocational rehabilitation (VR) counselors, to improve their capacity to implement innovative and effective VR services and employment strategies and practices to increase the number and quality of employment outcomes for American Indians with disabilities served through the AIVRS program.

Awards will be made to State, local, or Tribal governments, non-profit organizations, or institutions of higher education that have experience in the operation of AIVRS programs.

DATES: This priority and definitions are effective April 15, 2021.

FOR FURTHER INFORMATION CONTACT: Jerry Elliott, U.S. Department of Education, 400 Maryland Avenue SW, Room 5097, Potomac Center Plaza, Washington, DC 20202-2800. Telephone: (202) 245-7335. Email: jerry.elliott@ed.gov.

If you use a telecommunications device for the deaf (TDD) or a text telephone (TTY), call the Federal Relay Service (FRS), toll free, at 1-800-877-8339.

SUPPLEMENTARY INFORMATION:

Purpose of Program: The purpose of the AIVRTTAC program is to provide training and TA to governing bodies of Indian Tribes, or consortia of those governing bodies, that have received an AIVRS grant under section 121(a) of the Rehabilitation Act of 1973, as amended (Act). Under section 121(c)(2) of the Act, the Commissioner of the Rehabilitation Services Administration (RSA) makes grants to, or enters into contracts or other cooperative agreements with, entities that have experience in the operation of AIVRS projects to provide such training and TA on developing, conducting, administering, and evaluating these projects.

Program Authority: 29 U.S.C. 741(c).

Applicable Program Regulations: 34 CFR part 371.

We published a notice of proposed priorities and definitions (NPP) for this program in the Federal Register on September 10, 2020 (85 FR 55802). That notice contained background information and our reasons for proposing the particular priorities and definitions.

Except for minor editorial and technical revisions for grammar and clarity, and one substantive change explained in the discussion of the comments that follow, there are no differences between Proposed Priority 1 and the proposed definitions and the final priority and final definitions. We have not included Proposed Priority 2 in the final priorities.

Public Comment: In response to our invitation in the NPP, five parties submitted comments on the proposed priorities and definitions.

Generally, we do not address technical and other minor changes, or suggested changes the law does not authorize us to make. In addition, we do not address general comments that raise concerns not directly related to the proposed priorities or definitions.

Analysis of Comments and Changes: An analysis of the comments and of any changes in the priorities and definitions since publication of the NPP follows.

Comment: Two commenters noted that American Indians, just like other groups, deserve rehabilitation and disability assistance services. The commenters believe that the AIVRS program is a great way to help this group. The commenters believe that Proposed Priority 1 would help.

Discussion: The Department agrees with the commenters that Proposed Priority 1 is important in helping the AIVRS projects to deliver AIVRS services to American Indians with disabilities served by the AIVRS projects.

Changes: None.

Comment: One commenter discussed the need to build internal capacity within AIVRS projects to deliver benefits counseling to AIVRS project participants. The commenter noted that benefits counseling is a proven approach that not only helps individuals understand the benefits of work but also leads to more employment outcomes. The commenter stated that benefits counseling provided within Tribal programs will be more welcome and better accepted than benefits counseling provided by “outsiders” who provide counseling and then leave. Specifically, the commenter recommended that the AIVRTTAC institute a plan to provide AIVRS consumers with benefits planning services by training Tribal members to provide these services and build expert capacity within the Tribal nations so that consumers can learn and understand the process and complex rules of government programs.

Discussion: The Department agrees with the commenter that benefits counseling services are important services to provide to AIVRS consumers as they work to develop their career goals and their individualized plan for employment (IPE). Benefits counseling is a commonly provided VR service. The Department agrees that the AIVRTTAC should be able to provide TA to Tribes seeking to build resources to provide these services and will address it in the cooperative agreement once the applicant is selected, but the priority addresses broader requirements for training such as development of the IPE, which looks at all VR services, of which benefits counseling is one. The Department does not believe that the one-size-fits-all approach suggested by the commenter—to require the AIVRTTAC to train all AIVRS grantees on benefits counseling—is the best approach given the diversity of the AIVRS grantees. Many small AIVRS projects may not have the capacity to devote staff time to this complicated issue and would need TA to establish relationships with other sources to address this need. Also, there may be local services available that have proven effective, or there may be collaborative approaches with other Tribal programs or external programs that could address this need. The Department believes that the specific method of providing benefits counseling services is best left to the specific AIVRS project and Tribal organizations to determine, with the AIVRTTAC providing TA as appropriate and as requested by the AIVRS project.

Changes: None.

Comment: One commenter advocated that any TA provided that results in the successful attainment of a certificate be offered only for academic credit and that certificates of a non-academic nature be only offered as incremental steps that would ultimately result in academic credit, resulting in a terminal degree in American Indian Vocational Rehabilitation Services. The commenter stated that when an individual self-identifies as an American Indian VR professional, the individual should be striving to be on a career-long learning endeavor to perform at their highest potential for the clients they serve. AIVRS agencies need personnel who choose this work as a career option, and academic degrees are an avenue whereby an individual makes these career choices.

Discussion: The Department agrees with the commenter that an academic credit option needs to be available for the courses offered for completion of a certificate in American Indian Vocational Rehabilitation Services. Proposed Priority 1 allows VR professionals from the AIVRS projects to decide to take certificate courses for no academic credit if they so choose. The Department will modify the priority to require that the AIVRTTAC offer an academic option in addition to a non-academic option and allow the applicant to determine the designation and requirements for each.

In addition, the Department will revise the proposed priority to encourage but not require an academic path whereby certificate courses taken for academic credit could lead to a degree in vocational rehabilitation or a closely related field. While an academic path leading to a degree is important, the Department does not agree that an academic path should be the only option. AIVRS projects hire staff at different levels in the organization, and certificate course knowledge could be helpful to staff at all levels of the organization. In addition, there may be individuals who bring great cultural or work experience to the AIVRS project but may not be, for various reasons, able to pursue a degree. The knowledge gained through a certificate class would nevertheless be helpful to the employee and benefit the AIVRS consumers the employee serves, even if the class is not taken for academic credit.

Changes: We have revised Proposed Priority 1 to require that the AIVRTTAC provide an academic credit option for courses offered that lead to a certificate in AIVRS and added language to encourage the inclusion of an academic path that allows certificate courses taken for academic credit to lead to a degree.

Comment: Regarding Proposed Priority 2, one commenter stated that the match requirement should be the smallest percentage possible and that foregone indirect funds should be allowable as an in-kind match because the commenter's organization within a university structure is funded by grant and contract revenue and has only limited other funds that could be used for match purposes. The commenter also stated that potential applicants, such as small colleges and Tribal entities, have limited funds available for match and that a match requirement will limit the diversity of applicants.

Discussion: The Department agrees that requirements in the proposed priority that would limit the potential applicant pool are not desirable. In particular, there are a number of institutions of higher education (IHEs) operated by Tribes that would bring cultural relevance and practical experience in the operation of workforce related programs in Tribal areas. While Tribal IHEs vary in size, funding, and location, it is possible that a match requirement would deter a Tribal IHE from becoming an applicant or a partner in an application. Applications with multiple partners generally require the participating organizations to furnish the matching funds for the portion of the grant they receive. Thus, a match requirement could discourage participation even as a partner in an application.

The Department also recognizes that the COVID-19 pandemic is not abating, especially in Tribal communities, and that the impact of the pandemic is causing revenue challenges for State and Tribal governments and State and Tribal IHEs, making the provision of matching funds even more difficult.

The proposed matching requirement is not required by statute. Because the Department wishes to invite applications from the broadest range of applicants, and because most of the eligible applicant pool is also economically affected by the COVID-19 pandemic, the Department has determined that the concerns raised by the commenter and the others recognized by the Department outweigh the value that a matching requirement might otherwise generate through greater institutional investment in the grant activity.

Changes: We have removed Proposed Priority 2.

Final Priority

American Indian Vocational Rehabilitation Services—Training and Technical Assistance Program

This priority funds a five-year cooperative agreement to establish an American Indian Vocational Rehabilitation Training and Technical Assistance Center (AIVRTTAC) to provide four types of training and technical assistance (TA) for the personnel of the American Indian Vocational Rehabilitation Services (AIVRS) projects awarded under section 121(a) of the Rehabilitation Act of 1973, as amended (Act), to the governing bodies of Indian Tribes and consortia of those governing bodies. The four types of training and TA are: (1) Intensive training and TA; (2) targeted training and TA; (3) universal training and TA; and (4) capacity-building for AIVRS project personnel through training modules that build foundational skills for the delivery of VR services to AIVRS project participants. The AIVRTTAC will develop and provide these types of training and TA for AIVRS projects in the following topic areas:

(a) Applicable laws and regulations governing the AIVRS program.

(b) Promising practices for providing VR services to American Indians with disabilities.

(c) The delivery of VR services to American Indians with disabilities, including the determination of eligibility, case management, case record documentation, assessment, development of the individualized plan for employment, and placement into competitive integrated employment.

(d) Knowledge of assistive technology (AT), including the definition of AT, how to evaluate the need for AT and what types of AT are available, use of AT, and access to AT.

(e) Implementing professional development practices to ensure effective project coordination, administration, and management.

(f) Implementing appropriate financial and grant management practices to ensure compliance with OMB's Uniform Guidance (2 CFR part 200) and the Education Department General Administrative Regulations.

(g) Evaluating project performance, including data collection, data analysis, and reporting.

Specific subjects for training and TA in each of these topic areas will be identified on an annual basis and in coordination with RSA.

Project Activities

To be considered for funding under this priority, applicants must conduct the following activities, or a subset of the following activities as determined by the Department, in a culturally appropriate manner:

(a) Maintain and build upon the 12 training modules and the fiscal tool kit developed by the Tribal Vocational Rehabilitation Institute (the Institute) during Federal fiscal years (FFYs) 2015-2021, including maintaining the series of seven training modules that build foundational skills that, when satisfactorily completed, lead to a VR certificate to be awarded by the AIVRTTAC. To satisfy this activity requirement, the grantee—

(i) Must develop both academic and non-academic options for completing courses leading to the VR certificate, the requirements for obtaining a certificate including the specific requirements for academic credit for courses included in the certificate when applicable, and how the certificate may be used by the participants who earn it;

(ii) May offer the series of training modules in a traditional classroom setting, through distance learning, through week-long institutes, at regional trainings throughout the country as an extension of national conferences, and through other delivery methods, as appropriate, to meet the needs of the targeted audience;

(iii) May use grant funds to provide reasonable financial assistance for the cost of tuition, fees, and training materials and to offset costs associated with travel for participants who may be in remote areas of the country;

(iv) Must conduct an assessment before and after providing training for each participant in order to assess strengths and specific areas for improvement, educational attainment, and application of skills, and any issues or challenges to be addressed post-training to ensure improved delivery of VR services to American Indians with disabilities;

(v) Must provide follow-up TA to participants to address any issues or challenges that are identified post-training and to ensure that the training they received is applied effectively in their work setting, and such follow-up may be conducted as part of the provision of targeted training and TA or intensive training and TA as determined by the needs of the specific AIVRS project;

(vi) Must conduct an evaluation to obtain feedback on the training and follow-up TA and to determine whether this training and TA contributed to increased employment outcomes for American Indians with disabilities;

(vii) Are encouraged to develop a path by which courses offered for academic credit lead to a degree in Rehabilitation or a related field; and

(viii) May develop additional training modules as negotiated through the cooperative agreement.

(b) Maintain and build upon the topics and tools the current AIVRRTAC has developed to provide intensive training and TA. To satisfy this activity requirement, the grantee must—

(i) Develop and provide intensive training and TA to a minimum of three AIVRS projects in the first year. For future years, the minimum number of AIVRS projects to receive intensive training and TA will be negotiated through the cooperative agreement;

(ii) Develop and implement training and TA consistent with AIVRS project activities and tailored to the specific needs and challenges of the AIVRS project receiving the intensive training and TA;

(iii) Provide training and TA under an agreement with each AIVRS project receiving intensive training and TA that, at a minimum, details the purpose of the training and TA, intended outcomes, and requirements for the subsequent evaluation of the training and TA; and

(iv) Assess the results of the training and TA 90 days after its completion to ensure that the recipient is able to apply effectively the training and TA, identify any issues or challenges in its implementation, and provide additional training and TA, either virtually or on-site, as needed.

(c) Maintain and build upon the topics and tools the current AIVRTTAC has developed to provide a range of targeted training and TA in the topic areas described in this priority based on needs common to multiple AIVRS projects. The grantee must follow up with the recipients of targeted training and TA it provides to determine the effectiveness of the training and TA;

(d) Maintain and build upon the topics and tools the current AIVRTTAC has developed to provide universal training and TA in the topic areas in this priority;

(e) Provide a minimum of two webinars or video conferences in each of the topic areas in this priority to describe and disseminate up-to-date information, guides, examples, and emerging and promising practices in each area;

(f) Develop new information technology (IT) platforms and systems, or modify existing platforms and systems, as follows:

(i) Develop or modify, and maintain, a state-of-the-art IT platform capable and reliable enough to support webinars, teleconferences, video conferences, and other virtual methods of dissemination of information and TA;

(ii) Develop or modify, and maintain, a state-of-the-art archiving and dissemination system that is open and available to all AIVRS projects and that provides a central location for all AIVRS training and TA products for later use, including course curricula, audiovisual materials, webinars, examples of promising practices related to the topic areas in this priority, the primary areas identified through the annual surveys completed by AIVRS projects, other topics identified by RSA, and other relevant TA products (the possibility of collaborating with the National Clearinghouse of Rehabilitation Training Materials will be considered with the grantee and included in the cooperative agreement, as appropriate);

(iii) Ensure that all products produced by the AIVRTTAC meet government and industry-recognized standards for accessibility; and

(iv) Ensure that all products, resources, and materials developed by the AIVRTTAC are widely disseminated across the AIVRS projects and reflect the AIVRS population and diversity among its communities to the maximum extent possible.

(g) Establish a community of practice (or communities of practice) that will serve as a vehicle for communication, an exchange of information among AIVRS projects, and a forum for sharing the results of training and TA projects that are in progress or have been completed;

(h) Conduct outreach to AIVRS projects so that they are aware of, and can participate in, training and TA activities; and

(i) Conduct an evaluation to determine the quality, relevance, and usefulness of the AIVRTTAC's training and TA, including the impact of the AIVRTTAC's activities on the ability of AIVRS projects to effectively manage their projects and improve the delivery of VR services to American Indians with disabilities.

Project Requirements

To be funded under this priority, applicants must meet the project requirements in this priority. RSA encourages innovative approaches to meet these requirements, which are—

(a) Demonstrate in the narrative section of the application under “Significance of the Proposed Project” how the proposed project will—

(1) Use the applicant's knowledge and experience in the operation of AIVRS projects to provide training and TA for these projects;

(2) Address the AIVRS projects' capacity to effectively implement an AIVRS project. To meet this requirement, the applicant must—

(i) Demonstrate knowledge of emerging and promising practices in the topic areas in this priority;

(ii) Demonstrate knowledge of current RSA guidance and Federal initiatives designed to improve the functioning of grant projects in general and grant projects for American Indian Tribes in particular; and

(iii) Present information about the difficulties that AIVRS grantees have encountered in implementing effective AIVRS projects;

(b) Demonstrate in the narrative section of the application under “Quality of Project Design” how the proposed project will—

(1) Achieve its goals, objectives, and intended outcomes. To meet this requirement, the applicant must provide—

(i) Measurable intended project outcomes;

(ii) A plan for how the proposed project will achieve its intended outcomes;

(iii) A plan for communicating and coordinating with RSA and key personnel of AIVRS projects; and

(iv) A draft training module or outline for a targeted training and TA presentation or an outline for intensive training and TA activities for one of the topic areas in this priority to demonstrate how participants would be trained in that area. The module or outline is a required attachment in the application and must include, at a minimum, the following:

(A) The goals and objectives of this training module, targeted training and TA activity, or intensive training and TA activities;

(B) A specific list of what participants should know and be able to do as a result of successfully completing the module, targeted training and TA activity, or intensive training and TA activities;

(C) Up-to-date resources, publications, applicable laws and regulations, and other materials that may be used to develop the module, targeted training and TA activity, or intensive training and TA activities;

(D) Exercises that will provide an opportunity for application of the subject matter;

(E) A description of how participant knowledge, skills, and abilities will be measured; and

(F) In the case of an intensive training and TA intervention, how the outcomes and impact of the intensive training and TA intervention will be measured;

(2) Use a logic model to develop project plans and activities that includes, at a minimum, the goals, activities, outputs, and outcomes of the proposed project;

(3) Be based on current research and make use of emerging and promising practices, and evidence-based practices, where available. To meet this requirement the applicant must describe—

(i) The current research on the emerging and promising practices in the topic areas in this priority; and

(ii) How the AIVRTTAC will incorporate current research and promising and evidence-based practices, including research about adult learning principles and implementation science, in the development and delivery of its products and services;

(4) Develop products and provide services that are of high quality and of sufficient intensity and duration to achieve the intended outcomes of the proposed project. To address this requirement the applicant must describe—

(i) Its proposed approach to universal training and TA;

(ii) Its proposed approach to targeted training and TA, which must identify—

(A) The intended recipients of the products and services under this approach, including the categories of personnel that would be receiving the training and TA;

(B) Its proposed methods for providing targeted training and TA; and

(C) Its proposed methodology for determining topics for the targeted training and TA;

(iii) Its proposed approach to intensive training and TA, which must identify—

(A) Its proposed approach to identifying recipients for intensive training and TA;

(B) Its proposed methodology for providing intensive training and TA to recipients; and

(C) Its proposed approach to assessing the training and TA needs of recipients, including their ability to respond effectively to the training and TA; and

(iv) Its proposed approach to maintaining and building upon capacity-building modules, which must identify—

(A) Its proposed approach to maintaining the 12 training modules and the fiscal tool kit developed by the Institute in FFYs 2015-2021, including maintaining the series of seven training modules that build foundational skills that, when satisfactorily completed, lead to a VR certificate to be awarded by the grantee; and

(B) Its proposed approach to identifying, developing, and delivering new capacity-building modules; and

(5) Develop products and implement services to maximize the proposed project's efficiency. To address this requirement, the applicant must describe—

(i) How the proposed project will use technology to achieve the intended project outcomes;

(ii) With whom the proposed project will collaborate and the intended outcomes of this collaboration; and

(iii) In particular, how the proposed project will coordinate and collaborate with other RSA-funded technical assistance centers to exchange and adapt relevant products and materials to avoid duplication and make effective use of grant funds to better manage the AIVRTTAC project and its available resources to improve service delivery to AIVRS projects;

(c) Demonstrate in the narrative section of the application under “Adequacy of Project Resources” how—

(1) The applicant and any key partners possess adequate resources to carry out the proposed activities; and

(2) The proposed costs are reasonable in relation to the anticipated results and benefits;

(d) Demonstrate in the narrative section of the application under “Quality of Project Personnel” how—

(1) The proposed project will encourage applications for employment from persons who are members of groups that have historically been underrepresented based on race, color, national origin, gender, age, or disability, as appropriate; and

(2) The proposed key project personnel, consultants, and subcontractors have the qualifications and experience to provide training and TA to AIVRS projects in each of the topic areas in this priority and to achieve the project's intended outcomes, including how the proposed project personnel have a high degree of knowledge and understanding of cultural factors that will be sufficient to ensure the delivery of training and TA in a culturally appropriate manner;

(e) Demonstrate in the narrative section of the application under “Quality of the Management Plan” how the proposed management plan will ensure that the project's intended outcomes will be achieved on time and within budget. To address this requirement, the applicant must describe—

(1) Clearly defined roles and responsibilities for at least two full-time key project personnel designated to the AIVRTTAC through the entire project period and for consultants and subcontractors, as applicable;

(2) Timelines and milestones for accomplishing the project tasks;

(3) Using a personnel loading chart, detailed project activities through the entire project period, key personnel and any consultants or subcontractors that will be allocated to each activity, and the designated level of effort for each of those activities;

(4) How the personnel allocations in the personnel loading chart are appropriate and adequate to achieve the project's intended outcomes, including an assurance that all personnel will communicate with stakeholders and RSA in a timely way;

(5) How the proposed management plan will ensure that the training and TA products developed through this cooperative agreement are complete, accurate, and of high quality; and

(6) How the proposed project will benefit from a diversity of perspectives, including AIVRS projects and consumers, State VR agencies, TA providers, and policy makers, in its development and operation; and

(f) Demonstrate in the narrative section of the application under “Quality of the Evaluation Plan” how the applicant proposes to collect and analyze data on specific and measurable goals, objectives, and intended outcomes of the project, including the effectiveness of the training and TA provided. To address this requirement, the applicant must describe—

(i) Its proposed evaluation methodologies, including instruments, data collection methods, and analyses;

(ii) Its proposed standards or targets for determining effectiveness;

(iii) How it will use the evaluation results to examine the effectiveness of its implementation and its progress toward achieving the intended outcomes; and

(iv) How the methods of evaluation will produce quantitative and qualitative data that demonstrate whether the project and individual training and TA activities achieved their intended outcomes.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Definitions: We establish the following definitions for use in any competition in which the final priority is used:

Intensive training and technical assistance (TA) means training and TA provided to the governing bodies of Indian Tribes that have received an AIVRS grant and to the current personnel of the AIVRS projects primarily on-site over an extended period. Intensive training and TA is based on an ongoing relationship between the training and TA center staff and the governing bodies of Indian Tribes that have received an AIVRS grant and the current personnel of the AIVRS projects under the terms of a signed intensive training and TA agreement.

Targeted training and technical assistance means training and TA based on needs common to one or more governing bodies of Indian Tribes that have received an AIVRS grant and to the current personnel of the AIVRS projects on a time-limited basis and with limited commitment of training and technical assistance center resources. Targeted training and TA are delivered through virtual or in-person methods tailored to the identified needs of the participating governing bodies of Indian Tribes that have received an AIVRS grant and to the current personnel of the AIVRS projects.

Universal training and technical assistance means training and TA broadly available to governing bodies of Indian Tribes that have received an AIVRS grant and to the current personnel of the AIVRS projects and other interested parties through their own initiative, resulting in minimal interaction with training and technical assistance center staff. Universal training and TA includes generalized presentations, products, and related activities available through a website or through brief contacts with the training and technical assistance center staff.

This document does not preclude us from proposing additional priorities, requirements, definitions, or selection criteria, subject to meeting applicable rulemaking requirements.

Note: This document does not solicit applications. In any year in which we choose to use the priority and definitions we invite applications through a notice in the Federal Register.

Executive Orders 12866 and 13563

Regulatory Impact Analysis

Under Executive Order 12866, OMB must determine whether this regulatory action is “significant” and, therefore, subject to the requirements of the Executive order and subject to review by OMB. Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority and definitions only on a reasoned determination that their benefits justify their costs. In choosing among alternative regulatory approaches, we selected those approaches that maximize net benefits. Based on the analysis that follows, the Department believes that this regulatory action is consistent with the principles in Executive Order 13563.

We also have determined that this regulatory action does not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities. The costs would include the time and effort in responding to the priority for entities that choose to respond.

In addition, we have considered the potential benefits of this regulatory action and have noted these benefits in the background section of this document. The benefits include continuing to provide both TA and a structured training program focused on the VR process and practices and the unique skills and knowledge necessary to improve employment outcomes for American Indians with disabilities.

Intergovernmental Review: This program is not subject to Executive Order 12372 and the regulations in 34 CFR part 79.

Regulatory Flexibility Act Certification: The Secretary certifies that this regulatory action will not have a significant economic impact on a substantial number of small entities. The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

The small entities that this regulatory action will affect are public or private nonprofit agencies and organizations, including Indian Tribes and institutions of higher education that may apply. We believe that the costs imposed on an applicant by the priority and definitions will be limited to paperwork burden related to preparing an application and that the benefits of the priority and definitions will outweigh any costs incurred by the applicant. There are very few entities that could provide the type of training and TA required under the final priority. For these reasons the priority and definitions will not impose a burden on a significant number of small entities.

Paperwork Reduction Act of 1995: The priority and definitions contain information collection requirements that are approved by OMB under OMB control number 1820-0018; the priority and definitions do not affect the currently approved data collection.

Accessible Format: On request to the contact person listed under FOR FURTHER INFORMATION CONTACT, individuals with disabilities can obtain this document in an accessible format. The Department will provide the requestor with an accessible format that may include Rich Text Format (RTF) or text format (txt), a thumb drive, an MP3 file, Braille, large print, audiotape, or compact disc, or other accessible format.

Electronic Access to This Document: The official version of this document is the document published in the Federal Register. You may access the official edition of the Federal Register and the Code of Federal Regulations at www.govinfo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

David Cantrell,
Deputy Director, Office of Special Education Programs. Delegated the authority to perform the functions and duties of the Assistant Secretary for the Office of Special Education and Rehabilitative Services.

[FR Doc. 2021-05430 Filed 3-11-21; 4:15 pm]

BILLING CODE 4000-01-P